DEPARTMENT OF LABOR

Office of the Secretary

Agency Information Collection Activities; Submission for OMB Review; Comment Request; 2012 Wage and Hour Division and Occupational Safety and Health Administration Surveys Workers' Voice in the Workplace

ACTION: Notice.

SUMMARY: The Department of Labor (DOL) is submitting the information collection request (ICR) proposal titled, “2012 Wage and Hour Division and Occupational Safety and Health Administration Surveys Workers' Voice in the Workplace,” to the Office of Management and Budget (OMB) for review and approval for use in accordance with the Paperwork Reduction Act (PRA) of 1995 (44 U.S.C. 3501 et seq.).

DATES: Submit comments on or before June 7, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-Wage and Hour Division, Office of Management and Budget, Room 10235, Washington, DC 20503, Telephone: 202-395-6929/Fax: 202-395-6881 (these are not toll-free numbers), email: OIRA_submission@omb.eop.gov.

FOR FURTHER INFORMATION CONTACT: Michel Smyth by telephone at 202-693-4129 (this is not a toll-free number) or by email at DOL_PRA_PUBLIC@dol.gov.

SUPPLEMENTARY INFORMATION: The 2012 Wage and Hour Division (WHD) and Occupational Safety and Health Administration (OSHA) surveys Workers' Voice in the Workplace will gauge the current level of workers' voice in the workplace and factors affecting workers' voice as it relates to WHD and OSHA administered laws. Voice in the workplace is a key outcome goal for the Secretary of Labor and part of her vision of good jobs for everyone. The DOL working definition of voice in the workplace is the worker's ability to access information on his or her rights in the workplace, the worker's understanding of those rights, and the worker's ability to exercise those rights without fear of recrimination. The surveys will measure each of these items, first individually and then in combination, to come up with an overall measure of voice. The DOL also hopes to learn how voice is related to workers' perceptions of employer noncompliance, such as whether or not particular dimensions of voice correlate to workers' perceptions of noncompliance. The study will also be useful in examining how noncompliance in one area, such as safety, is related to voice in the workplace and noncompliance in another area, such as wages.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. For additional information, see the related notice published in the Federal Register on December 12, 2011.

Interested parties are encouraged to send comments to the OMB, Office of Information and Regulatory Affairs at the address shown in the ADDRESSES section within 30 days of publication of this notice in the Federal Register. In order to help ensure appropriate consideration, comments should mention OMB ICR Reference Number 201203-1235-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-WHD.

Title of Collection: 2012 Wage and Hour Division and Occupational Safety and Health Administration Surveys Workers' Voice in the Workplace.

OMB ICR Reference Number: 201203-1235-001.

Affected Public: Individuals or Households.

Total Estimated Number of Respondents: 4,820.

Total Estimated Number of Responses: 4,820.

Total Estimated Annual Burden Hours: 1,420.

Total Estimated Annual Other Costs Burden: $0.

Dated: May 2, 2012.
Michel Smyth,
Departmental Clearance Officer.

[FR Doc. 2012-10988 Filed 5-7-12; 8:45 am]

BILLING CODE 4510-27-P